DEPARTMENT OF HOMELAND SECURITY

Federal Emergency Management Agency

44 CFR Part 67

[Docket ID FEMA-2008-0020; Internal Agency Docket No. FEMA-B-1026]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before April 6, 2009.

ADDRESSES: The corresponding preliminary Flood Insurance Rate Map (FIRM) for the proposed BFEs for each community are available for inspection at the community's map repository. The respective addresses are listed in the table below.

You may submit comments, identified by Docket No. FEMA-B-1026, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground: Effective | * Elevation in feet (NGVD) + Elevation in feet (NAVD) # Depth in feet above ground: Modified | Communities affected
Otero County, New Mexico, and Incorporated Areas
Beeman Canyon Creek | From where the Flow Path meets the Dam | +4440 | +4442 | City of Alamogordo, Unincorporated Areas of Otero County.
| Approximately 1906 feet upstream from North Scenic Drive to the Limit of Study | None | +4603
Flow Path #12 | Approximately 758 feet downstream from Octillo Lane | None | +4471 | Unincorporated Areas of Otero County.
| Approximately 3,560 feet upstream from South canyon Road | None | +4670
Flow Path #16 | Approximately 461 feet downstream from Caneadea Loop | None | +4461 | Unincorporated Areas of Otero County.
| Approximately 2,904 feet upstream from Rocky Mountain Road to Limit of Study | None | +4803
Flow Path #2 | Approximately 1,450 feet upstream from Dam | None | +4449 | Unincorporated Areas of Otero County.
| Approximately 3,520 feet upstream from the Dam | None | +4481
Flow Path #3 | Approximately 741 feet downstream from Eddy drive | None | +4344 | Unincorporated Areas of Otero County.
| Approximately 51 feet upstream from Eddy drive | None | +4350
Flow Path #30 | At the Alamogordo City Limits | None | +4122 | Unincorporated Areas of Otero County, City of Alamogordo.
| Approximately 7,117 feet upstream of the Alamogordo City Limits | None | +4202
Flow Path #31 | Approximately 2,617 feet downstream from Lavelle Road | None | +4270 | Unincorporated Areas of Otero County.
| Approximately 2,699 feet downstream from Lavelle Road | None | +4270
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Alamogordo
Maps are available for inspection at 1376 East Ninth St., Alamogordo, NM 88310
Unincorporated Areas of Otero County
Maps are available for inspection at 1000 New York Ave., Alamogordo, NM 88310.
Niagara County, New York, and Incorporated Areas
Bergholtz Creek | At confluence with Cayuga Creek | +571 | +570 | City of Niagara Falls, Town of Cambria, Town of Wheatfield.
| Approximately 1.4 miles upstream of NY State Route 425 (Shawnee Road) | None | +631
Bull Creek | At confluence with Tonawanda Creek—Backwater area | +573 | +575 | City of North Tonawanda, Town of Cambria, Town of Pendleton, Town of Wheatfield.
| Approximately 240 feet upstream of Lockport Road | None | +604
Cayuga Creek | Approximately 0.3 mile upstream of Pine Avenue/U.S. Route 62 | +572 | +571 | Town of Niagara, Town of Wheatfield.
| Approximately 70 feet downstream of the first Airport Overpass | +586 | +584
Cayuga Creek West Tributary | At the confluence with Cayuga Creek | +578 | +579 | Town of Niagara.
| Approximately 240 feet upstream of Lockport Road | None | +621
Cayuga Creek West Tributary Diversion | Just upstream of Porter Road | +583 | +582 | Town of Niagara.
| At the confluence with Cayuga Creek West Tributary | +583 | +582
Donner Creek | Approximately 326 feet downstream of Beatie Road | +618 | +617 | City of Lockport, Town of Lockport.
| Approximately 975 feet upstream of Lincoln Avenue | +632 | +631
Eighteenmile Creek | Just downstream of Stone Road | None | +364 | City of Lockport.
| Approximately 0.41 mile upstream of Stone Road | +363 | +364
Eighteenmile Creek East Branch | Approximately 1,300 feet downstream of Day Road | +369 | +374 | Town of Newfane.
| Approximately 540 feet upstream of Day Road | +373 | +374
Gulf Branch | At confluence with Eighteenmile Creek | +362 | +364 | City of Lockport.
| Approximately 800 feet upstream of confluence with Eighteenmile Creek | +363 | +364
Johnson Creek 2 | Approximately 665 feet downstream of Sherman Road | None | +476 | Town of Hartland, Town of Royalton.
| Approximately 0.19 mile upstream of Telegraph Road | None | +541
Mud Creek | At confluence with Tonowanda Creek | +581 | +583 | Town of Pendleton, Town of Lockport.
| Approximately 0.63 mile downstream of Minnick Road | +582 | +583
Sawyer Creek (East) | At confluence with Bull Creek | +572 | +575 | City of North Tonawanda, Town of Wheatfield.
| At the centerline of Ward Road | None | +578
Sawyer Creek (West) | At confluence with Bergholtz Creek | None | +573 | Town of Wheatfield.
| At the centerline of Ward Road | None | +578
Tonawanda Creek | Approximately 0.9 mile upstream of Twin Cities Memorial Highway | None | +572 | City of North Tonawanda, Town of Lockport, Town of Pendleton, Town of Royalton, Town of Wheatfield.
| Approximately 2.8 miles upstream of Rapids Road | None | +593
Town Ditch Number 2 | At confluence with Tonawanda Creek | None | +578 | Town of Pendleton.
| Approximately 0.8 mile upstream of Campbell Boulevard | None | +578
Twelvemile Creek | Approximately 2.0 miles upstream of Fitch Road | +301 | +300 | Town of Porter, Town of Wilson.
| Approximately 870 feet downstream of Ransomville Road | +300 | +301
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Lockport
Maps are available for inspection at Lockport Municipal Building, One Locks Plaza, Lockport, NY.
City of Niagara Falls
Maps are available for inspection at Niagara Falls City Hall, 745 Main Street, Niagara Falls, NY.
City of North Tonawanda
Maps are available for inspection at North Tonawanda City Hall, 216 Payne Avenue, North Tonawanda, NY.
Town of Cambria
Maps are available for inspection at Cambria Town Hall, 4160 Upper Mountain Road, Sanborn, NY.
Town of Hartland
Maps are available for inspection at Hartland Town Hall, 8942 Ridge Road, Gasport, NY.
Town of Lockport
Maps are available for inspection at Lockport Town Hall, 6560 Dysinger Road, Lockport, NY.
Town of Newfane
Maps are available for inspection at Newfane Town Hall, 2896 Transit Road, Newfane, NY.
Town of Niagara
Maps are available for inspection at Niagara Town Hall, 7105 Lockport Road, Niagara Falls, NY.
Town of Pendleton
Maps are available for inspection at Pendleton Town Hall, 6570 Campbell Boulevard, Lockport, NY.
Town of Porter
Maps are available for inspection at Porter Town Hall, 3265 Creek Road, Youngstown, NY.
Town of Royalton
Maps are available for inspection at Royalton Town Hall, 5316 Royalton Center Road, Middleport, NY.
Town of Wheatfield
Maps are available for inspection at Wheatfield Town Hall, 2800 Church Road, North Tonawanda, NY.
Town of Wilson
Maps are available for inspection at Wilson Town Hall, 375 Lake Street, Wilson, NY.

(Catalog of Federal Domestic Assistance No. 97.022, “Flood Insurance.”)

Dated: December 22, 2008.
Michael K. Buckley,
Acting Assistant Administrator, Mitigation Directorate, Department of Homeland Security, Federal Emergency Management Agency.

[FR Doc. E8-31267 Filed 1-2-09; 8:45 am]

BILLING CODE 9110-12-P